DEPARTMENT OF TRANSPORTATION

Federal Aviation Administration

14 CFR Part 39

[Docket No. FAA-2010-1192; Directorate Identifier 2010-CE-020-AD; Amendment 39-16611; AD 2011-05-02]

RIN 2120-AA64

Airworthiness Directives; Viking Air Limited (Type Certificate No. A-815 Formerly Held by Bombardier Inc. and de Havilland, Inc.) Model DHC-3 Airplanes

AGENCY: Federal Aviation Administration (FAA), DOT.

ACTION: Final rule.

SUMMARY: We are adopting a new airworthiness directive (AD) for the products listed above. This AD requires repetitively inspecting the elevator control tabs for discrepancies and, if any discrepancies are found, taking necessary corrective actions to bring all discrepancies within acceptable tolerances. This AD also requires reporting certain inspection results to the FAA. This AD was prompted by an evaluation of revisions to the manufacturer's maintenance manual that adds new repetitive inspections of the elevator control tabs. To require compliance with these inspections for U.S. owners and operators we are mandating the inspections through the rulemaking process. We are issuing this AD to add new repetitive inspections of the elevator control tabs. If these inspections are not done, excessive free-play in the elevator control tabs could develop. This condition could lead to loss of tab control linkage and severe elevator flutter. Such elevator flutter could lead to possible loss of control.

DATES: This AD is effective March 31, 2011.

The Director of the Federal Register approved the incorporation by reference of certain publications listed in the AD as of March 31, 2011.

ADDRESSES: For information about the revisions to the FAA-approved maintenance/inspection program identified in this AD, contact Viking Air Ltd., 9574 Hampden Road, Sidney, BC Canada V8L 5V5; telephone: (800) 663-8444; Internet: http://www.vikingair.com. You may review copies of the referenced revisions at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: George Duckett, Aerospace Engineer, New York Aircraft Certification Office, FAA, 1600 Stewart Avenue, Suite 410, Westbury, New York 11590; telephone: (516) 228-7325; fax: (516) 794-5531; e-mail: george.duckett@faa.gov.

SUPPLEMENTARY INFORMATION:

Discussion

We issued a notice of proposed rulemaking (NPRM) to amend 14 CFR part 39 to include an airworthiness directive (AD) that would apply to the specified products. That NPRM published in the Federal Register on December 7, 2010 (75 FR 75932). That NPRM proposed to require repetitively inspecting the elevator control tabs for discrepancies and, if any discrepancies are found, taking necessary corrective actions to bring all discrepancies within acceptable tolerances.

That NPRM also proposed a reporting requirement requesting information when the total maximum free play of the elevator servo tab and trim tab relative to the elevator exceeds 1.0 degree (this is equal to a maximum displacement of 0.070″ at the trailing edge of the servo tab). Collecting this information will help us better understand the service history related to excessive free-play in the elevator control tabs for various Model DHC-3 engine configurations.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Interim Action

We are continuing to evaluate the cause of the unsafe condition identified in this AD to enable us to obtain better insight into the nature, cause, and extent of excessive free-play in the elevator control tabs. Based on this evaluation, we may consider further rulemaking.

Costs of Compliance

We estimate that this AD affects 65 airplanes of U.S. registry.

We estimate the following costs to comply with this AD:

Estimated Costs
Action | Labor cost | Parts cost | Cost per product | Cost on U.S. operators
Inspection | 1 work-hour × $85 per hour = $85 per inspection cycle | Not applicable | $85 per inspection cycle | $5,525 per inspection cycle.

We estimate the following costs to do any necessary follow-on actions that will be required based on the results of the inspection. We have no way of determining the number of airplanes that may need this repair/replacement:

On-Condition Costs
Action | Labor cost | Parts cost | Cost per product
Minimum repair | 1 work-hour × $85 per hour = $85 | $50 | $135
Moderate repair | 3 work-hours × $85 per hour = $255 | 150 | 405
Maximum repair | 6 work-hours × $85 per hour = $510 | 450 | 960

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2011-05-02 Viking Air Limited (Type Certificate No. A-815 Formerly Held by Bombardier Inc. and de Havilland, Inc.): Amendment 39-16611; Docket No. FAA-2010-1192; Directorate Identifier 2010-CE-020-AD.

Effective Date

(a) This AD is effective March 31, 2011.

Affected ADs

(b) None.

Applicability

(c) This AD applies to Viking Air Limited (Type Certificate No. A-815 formerly held by Bombardier Inc. and de Havilland, Inc.) Model DHC-3 airplanes, all serial numbers, that:

(1) Do not have the new elevator servo tab and redundant control linkage installed according to Supplemental Type Certificate (STC) No. SA01059SE; and

(2) Are certificated in any category.

Subject

(d) Joint Aircraft System Component (JASC)/Air Transport Association (ATA) of America Code 27, Flight Controls.

Unsafe Condition

(e) This AD results from an evaluation of revisions to the manufacturer's maintenance manual that adds new repetitive inspections to the elevator control tabs. To require compliance with these inspections for U.S. owners and operators we are mandating these inspections through the rulemaking process. We are issuing this AD to add new repetitive inspections of the elevator control tabs. If these inspections are not done, excessive free-play in the elevator control tabs could develop. This condition could lead to loss of tab control linkage and severe elevator flutter. Such elevator flutter could lead to possible loss of control.

Compliance

(f) Comply with this AD within the compliance times specified, unless already done.

Actions | Compliance | Procedures
(1) Inspect the elevator control tabs for discrepancies. | Initially within the next 50 hours time-in-service (TIS) after March 31, 2011 (the effective date of this AD). Repetitively thereafter inspect at intervals not to exceed 100 hours TIS. | Following Viking DHC-3 Otter Maintenance Manual Temporary Revisions No. 18, No. 19, and No. 20, all dated December 5, 2008.
(2) If any discrepancies are found during any inspection required in paragraph (f)(1) of this AD, take necessary corrective actions to bring all discrepancies within acceptable tolerances. | Before further flight after any inspection required in paragraph (f)(1) of this AD in which discrepancies are found. | Following Viking DHC-3 Otter Maintenance Manual Temporary Revisions No. 18, No. 19, and No. 20, all dated December 5, 2008.
(3) If, during any inspection required in paragraph (f)(1) of this AD, the total maximum free play of the elevator servo tab and trim tab relative to the elevator exceeds 1.0 degree (this is equal to a maximum displacement of 0.070″ at the trailing edge), report the results of the inspection to the FAA. | Within 30 days after the inspection. We are collecting these inspection results for 24 months after March 31, 2011 (the effective date of this AD). The reporting requirements of this AD are no longer required after that time. | Use the form (Figure 1 of this AD) and submit it to FAA, Small Airplane Directorate, Attn: Jim Rutherford, 901 Locust, Room 301, Kansas City, Missouri 64106.

BILLING CODE 4910-13-P

BILLING CODE 4910-13-C

Paperwork Reduction Act Burden Statement

(g) A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing, and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(h)(1) The Manager, New York Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(i) For more information about this AD, contact George Duckett, Aerospace Engineer, New York ACO, FAA, 1600 Stewart Avenue, Suite 410, Westbury, New York 11590; telephone: (516) 228-7325; fax: (516) 794-5531; e-mail: george.duckett@faa.gov.

Material Incorporated by Reference

(j) You must use Viking DHC-3 Otter Maintenance Manual Temporary Revision No. 18, Viking DHC-3 Otter Maintenance Manual Temporary Revision No. 19, and Viking DHC-3 Maintenance Manual Temporary Revision No. 20, all dated December 5, 2008, to do the actions required by this AD, unless the AD specifies otherwise.

(1) The Director of the Federal Register approved the incorporation by reference of this service information under 5 U.S.C. 552(a) and 1 CFR part 51.

(2) For information about the revisions to the maintenance program identified in this AD, contact Viking Air Ltd., 9574 Hampden Road, Sidney, BC Canada V8L 5V5; telephone: (800) 663-8444; Internet: http://www.vikingair.com.

(3) You may review copies of the referenced revisions at the FAA, Small Airplane Directorate, 901 Locust, Kansas City, Missouri 64106. For information on the availability of this material at the FAA, call 816-329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on February 15, 2011.
Earl Lawrence,
Manager, Small Airplane Directorate, Aircraft Certification Service.

[FR Doc. 2011-3926 Filed 2-23-11; 8:45 am]

BILLING CODE 4910-13-P